DEPARTMENT OF LABOR

Pension and Welfare Benefits Administration

112th Full Meeting of the Advisory Committee on Employee Welfare and Pension Benefits Plan; Notice of Meeting

Pursuant to the authority contained in Section 512 of the Employee Retirement Income Security Act of 1974 (ERISA), 29 U.S.C. 1142, the 112th open meeting of the full Advisory Committee on Employee Welfare and Pension Benefit Plans will be held Tuesday, November 14, 2000, in the Labor Secretary's Conference Room S-2508, U.S. Department of Labor Building, Third and Constitution Avenue, NW., Washington, DC 20210.

The purpose of the meeting, which will begin at 1:30 p.m. and end at approximately 3 p.m., is for the three working groups to present their final reports and/or recommendations on their study topics for 2000 and for Leslie Kramerich, the acting Assistant Secretary for the Pension and Welfare Benefits Administration, to update members on employee benefits legislative and regulatory activities. Departing members also will be awarded certificates of appreciation.

Members of the public are encouraged to file a written statement pertaining to topics the Council studied for the year by submitting 20 copies on or before November 6, 2000 to Sharon Morrissey, Executive Secretary, ERISA Advisory Council, U.S. Department of Labor, Suite 5677, 200 Constitution Avenue, NW., Washington, DC 20210.

Individuals or representatives of organizations wishing to address the Advisory Council should forward their requests to the Executive Secretary or telephone (202) 219-8753. Oral presentations will be limited to ten minutes, time permitting, but an extended statement may be submitted for the record. Individuals with disabilities, who need special accommodations, should contact Sharon Morrissey by November 6 at the address indicated.

Organizations or individuals may also submit statements for the record without testifying. Twenty (20) copies of such statements should be sent to the Executive Secretary of the Advisory Council at the above address. Papers will be accepted and included in the record of the meeting if received on or before November 6, 2000.

Signed at Washington, DC this 19th day of October 2000.
Leslie Kramerich,
Acting Assistant Secretary, Pension and Welfare Benefits Administration.

[FR Doc. 00-27262 Filed 10-23-00; 8:45 am]

BILLING CODE 4510-29-M